ENVIRONMENTAL PROTECTION AGENCY

[FRL-7938-9]

Notice of Open Meeting of the Environmental Financial Advisory Board

AGENCY: Environmental Protection Agency (EPA).

ACTION: Notice.

SUMMARY: The United States Environmental Protection Agency's (EPA) Environmental Financial Advisory Board (EFAB) will hold an open meeting. EFAB is an EPA advisory committee chartered under the Federal Advisory Committee Act (FACA) to provide advice and recommendations to EPA on creative approaches to funding environmental programs, projects, and activities.

EFAB is charted with providing analysis and advice to the EPA Administrator and program offices on environmental finance. The purpose of this meeting is to discuss progress with work products under EFAB's current strategic action agenda and to develop an action agenda to direct the Board's ongoing and new activities through FY 2006. Environmental financing topics expected to be discussed include: Financial assurance mechanisms; environmental management systems; loan guaranty programs; innovative environmental financing tools; non-point source (watershed) financing; useful life financing of environmental facilities, and affordability of water and wastewater.

The meeting is open to the public, however; seating is limited. All members of the public who wish to attend the meeting must register in advance, no later than Thursday, August 4, 2005.

For information on access or services for individuals with disabilities, please contact Alecia F. Crichlow, U.S. EPA, at (202) 564-5188 or crichlow.alecia@epa.gov. To request accommodation of a disability, please contact Alecia Crichlow, preferably at least 10 days prior to the meeting to give EPA as much time as possible to process your request.

DATES: Monday, August 15, 2005 from 1-5 p.m. and Tuesday, August 16, 2005 from 7:30 a.m.-4:30 p.m.

ADDRESSES: Marriott San Francisco Fisherman's Wharf, 1250 Columbus Avenue, San Francisco, California, 94133.

Registration and Information Contact: To register for the meeting or get further information, please contact Alecia F. Crichlow, U.S. EPA, at (202) 564-5188 or crichlow.alecia@epa.gov.

Dated: July 6, 2005.
Joseph Dillon,
Director, Office of Enterprise Technology & Innovation.

[FR Doc. 05-13988 Filed 7-14-05; 8:45 am]

BILLING CODE 6560-50-P